DEPARTMENT OF THE INTERIOR

Bureau of Land Management

[LLWYD04000.L16100000.DP0000.19X]

Notice of Availability of the Draft Resource Management Plan Amendment and Draft Environmental Impact Statement for Wild Horse Management in the Bureau of Land Management Rock Springs and Rawlins Field Offices, Wyoming

AGENCY: Bureau of Land Management, Interior.

ACTION: Notice of availability.

SUMMARY: The Bureau of Land Management (BLM) Rock Springs Field Office has prepared a Draft Resource Management Plan (RMP) Amendment and Draft Environmental Impact Statement (EIS) for Wild Horse Management within the BLM Wyoming Rock Springs and Rawlins field offices. By this notice, the BLM is announcing the opening of a 90-day public comment period.

DATES: To ensure the BLM is able to consider your feedback, please submit written comments by April 30, 2020. BLM Wyoming will host two public meetings during the public comment period and will announce the specific dates, times, and locations through public notices, media news releases, and mailings at least 15 days prior to the meetings.

ADDRESSES: You may review the Draft EIS and RMP Amendment and submit comments online via the BLM's ePlanning website: https://go.usa.gov/xPUWj.

FOR FURTHER INFORMATION CONTACT: Kimberlee Foster, Field Manager, BLM Rock Springs Field Office at 307-352-0256 or kfoster@blm.gov. People who use a telecommunications device for the deaf may call the Federal Relay Service (FRS) at 1-800-877-8339 to contact the above individual during normal business hours. The FRS is available 24 hours a day, seven days a week, to leave a message or question with the above individual. You will receive a reply during normal business hours.

SUPPLEMENTARY INFORMATION: The BLM manages wild horses under the authority of the Wild Free-Roaming Horses and Burros Act of 1971, as amended, to ensure healthy wild horse herds thrive on healthy rangelands in balance with other resources. The Act requires the BLM to manage wild horses at appropriate management levels (AMLs) to achieve a thriving natural ecological balance. It also requires the BLM to remove wild horses that have strayed onto private lands if the landowner requests their removal.

In June 2010, the Rock Springs Grazing Association (RSGA) filed a lawsuit (Rock Springs Grazing Association v. Salazar, No. 11-CV-00263-NDF) in the U.S. District Court for the District of Wyoming contending the BLM violated Section 4 of the Wild Free-Roaming Horses and Burros Act (16 U.S.C. 1334) by failing to remove strayed animals from private lands controlled by the RSGA in southern Wyoming's checkerboard pattern of alternating public and private lands. In April 2013, the court approved a Consent Decree and Joint Stipulation for Dismissal that resolved the lawsuit and required the BLM to evaluate potential changes to its management of wild horses on checkerboard lands by considering an RMP amendment for the Rock Springs and Rawlins field offices. The BLM initiated this planning effort to meet the terms of the Consent Decree, which directs the BLM to analyze the following actions:

• Change the Salt Wells Creek Herd Management Area (HMA) to a herd area, which would be managed for zero wild horses, and re-gather the herd area to zero wild horses if its wild horse population exceeds 200;

• Change the Great Divide Basin HMA to a herd area, which would be managed for zero wild horses, and re-gather the herd area to zero wild horses if its wild horse population exceeds 100;

• Change the Adobe Town HMA's AML to 225-450 wild horses or lower, and do not relocate horses gathered from Adobe Town to Salt Wells Creek; and

• Manage the White Mountain HMA as a non-reproducing herd with a population of 205 wild horses by utilizing fertility control and sterilization methods, and initiate gathers if the HMA's population exceeds 205 wild horses.

The BLM is developing an EIS to analyze the impacts of these wild horse management actions. If approved, management actions analyzed in this Draft EIS would amend the 1997 Green River RMP and the 2008 Rawlins RMP.

The planning area for this Draft EIS/RMP Amendment covers the four HMAs that include checkerboard land and are addressed in the Consent Decree, encompassing approximately 2,811,401 acres in the Rock Springs and Rawlins field offices. The BLM manages approximately 1,920,314 acres of surface estate in the planning area. Private land in the planning area totals approximately 814,086 acres.

Before including your address, phone number, email address, or other personally identifying information in your comment, you should be aware that your entire comment—including your personally identifying information—may be made publicly available at any time. While you can ask the BLM in your comment to withhold your personally identifying information from public review, we cannot guarantee that we will be able to do so.

Authority: 43 CFR 1610.2; 40 CFR 1506.6(b).

Lori A. Armstrong,
Acting State Director, Wyoming.

[FR Doc. 2020-01979 Filed 1-30-20; 8:45 am]

BILLING CODE 4310-22-P